DEPARTMENT OF AGRICULTURE

Submission for OMB Review; Comment Request

August 31, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Animal Welfare, 9 CFR part 3, Marine Mammals.

OMB Control Number: 0579-0115.

Summary of Collection: The Laboratory Animal Welfare Act (AWA) (Pub. L. 89-544) enacted August 24, 1966, and amended December 24, 1970 (Pub. L. 91-579); April 22, 1976 (Pub. L. 94-279); and December 23, 1985 (Public Law 99-198) requires the U.S. Department of Agriculture (USDA) to regulate the humane care and handling of most warm-blooded animals, including marine mammals, used for research or exhibition purposes, sold as pets, or transported in commerce. This legislation and its amendments were the result of extensive demand by organized animal welfare groups and private citizens requesting a Federal law to protect such animals. USDA, Animal and Plant Health Inspection Service (APHIS), Animal Care (AC) has the responsibility to enforce the Animal Welfare Act and the provisions of 9 CFR, Chapter 1, Subchapter A, which implements the Animal Welfare Act. APHIS will collect information through the use of reports and records that are kept for a period of at least one year to ensure that the animals are cared for in the prescribed manner that is required by regulations.

Need and Use of the Information: APHIS will collect information to ensure compliance with the regulations intended to ensure the humane care and treatment of marine mammals. Without the information, none of the knowledge could be obtained from records, animal health certification would be at risk, and animals exposed to inadequate handling and care could not be properly documented.

Description of Respondents: Business or other for-profit; Not-for-profit institutions.

Number of Respondents: 2,197.

Frequency of Responses: Recordkeeping; Reporting: On occasion; Semi-annually.

Total Burden Hours: 9,750.

Ruth Brown,
Departmental Information Collection Clearance Officer.

[FR Doc. 05-17647 Filed 9-6-05; 8:45 am]

BILLING CODE 3410-34-P